DEPARTMENT OF HEALTH AND HUMAN SERVICES

Centers for Disease Control and Prevention

[30DAY-19-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Follow-Up Study of Children With Developmental Disabilities (0920-0436)—Revision—National Center for Environmental Health (NCEH). In the mid-1980s, a number of 10-year-old children were identified as having one or more of five developmental disabilities: mental retardation, cerebral palsy, epilepsy, hearing impairment, or vision impairment. These children were identified (mainly from special education records in the public schools) in the metro-Atlanta area as part of a study to develop surveillance methods for these conditions in school-age children. A follow-up study was initiated to trace, locate and interview these children, who are now in their early twenties, to assess their status with regard to educational attainment, employment, living arrangements, services received, functional limitations, adaptive behavior, social participation, health, and quality of life.

This study proposes to continue with the one-time, in-person interview and includes a contemporaneous comparison group of persons who, at age 10 years, were in regular education classes in the same schools as were the persons with developmental disabilities. The data generated from this study will continue to be used to estimate the burden of secondary health conditions, limited social participation, and economic disadvantage among young adults with long-standing, developmental impairments. This request is for a one-year renewal of the currently-approved study. The total annual burden hours are 1,093.

Respondents | No. of respondents | No. of responses/ respondent | Avg. burden of response (in hrs.)
Contacting | 1,056 | 1 | 10/60
Interview | 898 | 1 | 60/60
Call backs | 90 | 1 | 10/60

Dated: February 14, 2000.
Charles Gollmar,
Acting Associate Director for Policy, Planning and Evaluation, Centers for Disease Control and Prevention (CDC).

[FR Doc. 00-4200 Filed 2-23-00; 8:45 am]

BILLING CODE 4163-18-M